PEACE CORPS

Information Collection Request Under OMB Review

AGENCY: Peace Corps.

ACTION: “Correction” Notice of public use form review request to the Office of Management and Budget (OMB) for reinstatement of OMB Control # 0420-0513, PC Form 2042 (Rev. 07/2006), Correspondence Match Enrollment Form.

SUMMARY: On October 3, 2006, this day, this publication was published (Volume 71, Number 191, page 58454), as PC Form 2042 (Rev. 07/2006), Correspondence Match Enrollment Form.

The corrected title should read as follows:

OMB Control # 0420-0513, Correspondence Match Program Brochure and PC Form-2042 (Rev. 07/2006), Correspondence Match Enrollment Form.

ADDRESSES: Comments should be mailed to Peace Corps, Office of Domestic Programs, Sally Caldwell, Director of World Wise Schools, 1111 20th Street, NW., Washington DC 20526. Ms. Caldwell can be contacted by telephone at (202) 692-1425 or 800-424-8580, ext. 1425 or e-mail at scaldwell@peacecorps.gov. E-mail comments must be made in text and not in attachments.

OMB Control Number: 0420-0513.

Title: Correspondence Match Program Brochure and PC Form-2042 (Rev. 07/2006), Correspondence Match Enrollment Form.

Dated: December 20, 2006.
Wilbert Bryant,
Associate Director for Management.

[FR Doc. 06-9955 Filed 1-3-07; 8:45 am]

BILLING CODE 6051-01-M